FEDERAL COMMUNICATIONS COMMISSION

Radio Broadcasting Services; AM or FM Proposals To Change the Community of License

AGENCY: Federal Communications Commission.

ACTION: Notice.

SUMMARY: The following applicants filed AM or FM proposals to change the community of license: Eastern Sierra Broadcasting, Station KCWK, Facility ID 160324, BMP-20111004AED, from North Las Vegas, NV, to Laughlin, NV; Episcopo, Joseph A., Station NEW, Facility ID 189518, BNPH-20110929AGK, from Rotan, TX, to Roscoe, TX; Everglades City Broadcasting Company, Inc., Station WBGY, Facility ID 47386, BPED-20110928AIO, from Naples, FL, to Everglades City, FL; Heeren, Wayne L., Station NEW, Facility ID 166079, BNPH-20060310AEF, from Burke, SD, to Wagner, SD; Kona Coast Radio, LLC, Station KIMI, Facility ID 189501, BPH-20110926AEC, from Humboldt, NE, to Sidney, IA.

DATES: The agency must receive comments on or before December 19, 2011.

ADDRESSES: Federal Communications Commission, 445 12th Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division Media Bureau.

[FR Doc. 2011-27107 Filed 10-19-11; 8:45 am]

BILLING CODE 6712-01-P